INTERNATIONAL TRADE COMMISSION

[Investigation No. 337-TA-603]

In the Matter of: Certain DVD Players and Recorders and Certain Products Containing Same; Notice of a Corrected Limited Exclusion Order

AGENCY: U.S. International Trade Commission.

ACTION: Notice.

SUMMARY: Notice is hereby given that the U.S. International Trade Commission has issued a corrected limited exclusion order in the above-captioned investigation. The corrected order adds language, inadvertently left out of the previous order, noting that products of Dongguan GVG Digital Products Ltd. and GVG Digital Technology Holdings Ltd. (collectively, the “GVG respondents”) that practice the method of claim 16 of the U.S. Patent No. 5,870,523 (“the ‘523 patent”) are excluded from entry.

FOR FURTHER INFORMATION CONTACT: Paul M. Bartkowski, Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on May 8, 2007, based on a complaint filed by Toshiba Corporation of Tokyo, Japan and Toshiba America Consumer Products, L.L.C., of Wayne, New Jersey (collectively, “Toshiba”). The complaint, as supplemented, alleges violations of section 337 of the Tariff Act of 1930 (19 U.S.C. **1337) in the importation into the United States, the sale for importation, and the sale within the United States after importation of certain DVD players and recorders and certain products containing the same by reason of infringement of claims 6 and 7 of U.S. Patent No. 5,587,991, claims 16 and 31 of the ‘523 patent, and claim 4 of U.S. Patent No. 5,956,306. The complaint named over a dozen respondents, including the GVG respondents.

Each respondent has been terminated from the investigation on the basis of settlement, consent order, or, in the case of the GVG respondents, default. Because the GVG respondents were found in default, and thus subject to a limited exclusion order under section 337(g)(1), 19 U.S.C. 1337(g)(1), the Commission requested briefing from interested parties on remedy, the public interest, and bonding on December 17, 2007.

On February 15, 2008, the Commission issued a limited exclusion order prohibiting the unlicensed entry of certain DVD players and recorders and products containing same by reason of infringement of claims 6 and 7 of U.S. Patent No. 5,587,991, claim 31 of the ‘523 patent, and claim 4 of U.S. Patent No. 5,956,306, and that are manufactured abroad by or on behalf of, or imported by or on behalf of, the GVG respondents. The Commission's order was delivered to the President and the United States Trade Representative on the day of its issuance.

Under section 337(g)(1), 19 U.S.C. 1337 (g)(1), in the case of a defaulting respondent, the Commission presumes facts alleged in the complaint to be true. Accordingly, method claim 16 of the ‘523 patent should have been included in the limited exclusion order. The inclusion of method claim 16 will not broaden the scope of products covered by the exclusion order. Rather, it will merely provide an additional basis for exclusion of the products already covered by the order.

The authority for the Commission's determination is contained in section 337 of the Tariff Act of 1930, as amended (19 U.S.C. 1337), and § 210.16(c) of the Commission's Rules of Practice and Procedure (19 CFR 210.16(c)).

By order of the Commission.
Issued: March 14, 2008.
Marilyn R. Abbott,
Secretary to the Commission.

[FR Doc. E8-5609 Filed 3-19-08; 8:45 am]

BILLING CODE 7020-02-P